DEPARTMENT OF ENERGY

Federal Energy Regulatory Commission

Combined Notice of Filings #1

Take notice that the Commission received the following electric rate filings:

Docket Numbers: ER11-3576-014; ER11-3401-013.

Applicants: Golden Spread Electric Cooperative, Inc., Golden Spread Panhandle Wind Ranch, LLC.

Description: Supplement to June 29, 2017 Notice of Non-material Change in Status of Golden Spread Electric Cooperative, Inc.

Filed Date: 8/22/17.

Accession Number: 20170822-5042.

Comments Due: 5 p.m. ET 9/12/17.

Docket Numbers: ER16-1766-001.

Applicants: Midcontinent Independent System Operator, Inc.

Description: Compliance filing: 2017-08-21_Amended RSG Compliance filing to be effective 4/1/2011.

Filed Date: 8/21/17.

Accession Number: 20170821-5137.

Comments Due: 5 p.m. ET 9/11/17.

Docket Numbers: ER16-2225-001.

Applicants: Midcontinent Independent System Operator, Inc.

Description: Compliance filing: 2017-08-21_Compliance to RSG Rehearing Filing to be effective 8/21/2017.

Filed Date: 8/21/17.

Accession Number: 20170821-5149.

Comments Due: 5 p.m. ET 9/11/17.

Docket Numbers: ER16-2355-001.

Applicants: Midcontinent Independent System Operator, Inc.

Description: Compliance filing: 2017-08-21_Amended RSG Exemptions Compliance filing to be effective 8/31/2010.

Filed Date: 8/21/17.

Accession Number: 20170821-5132.

Comments Due: 5 p.m. ET 9/11/17.

Docket Numbers: ER17-1913-000.

Applicants: Entergy Nuclear FitzPatrick, LLC.

Description: Errata to June 27, 2017 Entergy Nuclear FitzPatrick, LLC tariff filing (Requesting Administrative Cancellation of Tariff).

Filed Date: 8/10/17.

Accession Number: 20170810-5144.

Comments Due: 5 p.m. ET 8/31/17.

Docket Numbers: ER17-2197-001.

Applicants: Nevada Power Company.

Description: Tariff Amendment: Rate Schedule No. 155 NPC/CRC Agreement Executed to be effective 10/1/2017.

Filed Date: 8/22/17.

Accession Number: 20170822-5082.

Comments Due: 5 p.m. ET 9/12/17.

Docket Numbers: ER17-2340-000.

Applicants: Golden Hills North Wind, LLC.

Description: Baseline eTariff Filing: Golden Hills North Wind, LLC Application for Market-Based Rates to be effective 9/15/2017.

Filed Date: 8/21/17.

Accession Number: 20170821-5129.

Comments Due: 5 p.m. ET 9/11/17.

Docket Numbers: ER17-2341-000.

Applicants: CA Flats Solar 130, LLC.

Description: Baseline eTariff Filing: CA Flats Solar 130, LLC MBR Tariff to be effective 8/22/2017.

Filed Date: 8/21/17.

Accession Number: 20170821-5134.

Comments Due: 5 p.m. ET 9/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2017.
Nathaniel J. Davis, Sr.,
Deputy Secretary.

[FR Doc. 2017-18149 Filed 8-25-17; 8:45 am]

BILLING CODE 6717-01-P